DEPARTMENT OF COMMERCE

Foreign-Trade Zones Board

[Docket 29-2000]

Application for Subzone Status; Archer Daniels Midland, Inc. (Natural Vitamin E), Decatur, Illinois

An application has been submitted to the Foreign-Trade Zones Board (the Board) by the Decatur Park District, which has an application pending for Foreign-Trade Zone status, requesting special-purpose subzone status for the natural Vitamin E manufacturing facility of Archer Daniels Midland, Inc. (ADM) in Decatur, Illinois. ADM is a global agricultural products company. The application was submitted pursuant to the provisions of the Foreign-Trade Zones Act, as amended (19 U.S.C. 81a-81u), and the regulations of the Board (15 CFR part 400). It was formally filed on June 13, 2000.

ADM's 80-acre West Plant site is located at 3700 East Division Street in the city of Decatur (Macon County), Illinois, some 60 miles south of Chicago. The facility (400 employees) is comprised of a soybean crushing operation, a vegetable oil refinery operation, a lecithin operation, a packaged oil operation, a specialty food additives operation, and the vitamin E operation (120,000 sq. ft./6 acres). The application requests authority to manufacture only Vitamin E, other tocopherols, sterols and fatty acids under zone procedures. The only raw material in the production of these products is vegetable oil distillate, a portion of which is sourced abroad. More than 20 percent of ADM's production of natural Vitamin E is exported.

Zone procedures would exempt ADM from Customs duty payments on foreign materials used in production for export. On domestic shipments, the company would be able to choose the duty rates that apply to the finished products (duty-free to 8.0%) instead of the rates otherwise applicable to the foreign material (deodorizer distillate rates could range from duty-free to 9.3% + 1.5¢/kg., depending on Customs classification and GSP status). The application indicates that the savings from zone procedures will help improve the international competitiveness of ADM's Decatur plant and will help increase exports.

In accordance with the Board's regulations, a member of the FTZ Staff has been designated examiner to investigate the application and report to the Board.

Public comment is invited from interested parties. Submissions (original and 3 copies) shall be addressed to the Board's Executive Secretary at the address below. The closing period for their receipt is August 22, 2000. Rebuttal comments in response to material submitted during the foregoing period may be submitted during the subsequent 15-day period (to September 6, 2000).

A copy of the application and accompanying exhibits will be available for public inspection at each of the following locations:

Office of the Executive Secretary, Foreign-Trade Zones Board, U.S. Department of Commerce, Room 4008, 14th & Pennsylvania Avenue, NW, Washington, DC 20230

Airport Administrative Office, Decatur Airport, 910 Airport Road, Decatur, IL 62521

Dated: June 13, 2000.
Dennis Puccinelli,
Acting Executive Secretary.

[FR Doc. 00-15964 Filed 6-22-00; 8:45 am]

BILLING CODE 3510-DS-P